DEPARTMENT OF LABOR

Employment and Training Administration

[NAFTA-5219]

Henry Manufacturing, Swat Fame, City of Industry, Los Angeles, California; Notice of Termination of Investigation

Pursuant to Title V of the North American Free Trade Agreement Implementation Act (Pub. L. 103-182) concerning transitional adjustment assistance, hereinafter called NAFTA-TAA and in accordance with section 250(a), Subchapter D, Chapter 2, Title II, of the Trade Act of 1974, as amended (19 U.S.C. 2331), an investigation was initiated on August 16, 2001, in response to a petition which was filed on behalf of workers at Henry Manufacturing, Swat Fame, City of Industry, Los Angeles, California.

The U.S. Department of Labor was unable to locate an official of the company to obtain the information necessary to render a decision.

Consequently further investigation in this case would serve no purpose, and the investigation has been terminated.

Signed in Washington, DC this 15th day of January, 2002.
Linda G. Poole,
Certifying Officer, Division of Trade Adjustment Assistance.

[FR Doc. 02-1777 Filed 1-23-02; 8:45 am]

BILLING CODE 4510-30-M